DEPARTMENT OF THE INTERIOR

Bureau of Indian Affairs

[234A2100DD/AAKC001030/A0A501010.999900]

Land Acquisitions; the Samish Indian Nation, Washington

AGENCY: Bureau of Indian Affairs, Interior.

ACTION: Notice.

SUMMARY: The Assistant Secretary—Indian Affairs has made a final determination to acquire 0.52 acres, more or less, into trust for the Samish Indian Nation, Washington.

DATES: This final determination was made on April 11, 2023.

FOR FURTHER INFORMATION CONTACT: Carla H. Clark, Bureau of Indian Affairs, Division of Real Estate Services, 1001 Indian School Road NW, Albuquerque, NM 87104, comments@bia.gov, (720) 484-3233.

SUPPLEMENTARY INFORMATION: On the date listed in the DATES section of this notice, the Assistant Secretary—Indian Affairs issued a decision to accept land in trust for the Samish Indian Nation, Washington under the authority of Section 5 of the Indian Reorganization Act of 1934 (48 Stat. 984). The land referred to herein, consisting of 0.52 acres, more or less, is in Skagit County, State of Washington, described as follows:

Legal Description of Property

Parcel Nos.: 56258, 106717—Longhouse Property

The east ½ of lot 13 and all of lots 14 through 20, inclusive, block 208, “map of the city of Anacortes”, as per plat recorded in volume 2 of plats, pages 4, 5, 6 and 7, records of Skagit county, Washington.

Authority

This notice is published in the exercise of authority delegated by the Secretary of the Interior to the Assistant Secretary—Indian Affairs by 209 Departmental Manual 8.1 and is published to comply with the requirements of 25 CFR 151.12(c)(2)(ii) that notice of the decision to acquire land in trust be promptly provided in the Federal Register.

Bryan Newland,
Assistant Secretary—Indian Affairs.

[FR Doc. 2023-08139 Filed 4-17-23; 8:45 am]

BILLING CODE 4337-15-P